DEPARTMENT OF COMMERCE

International Trade Administration

[C-570-913]

Certain New Pneumatic Off-the-Road Tires From the People's Republic of China: Final Results of Countervailing Duty Administrative Review; 2017

AGENCY: Enforcement and Compliance, International Trade Administration, Department of Commerce.

SUMMARY: The Department of Commerce (Commerce) continues to find that Weihai Zhongwei Rubber Co., Ltd. (Zhongwei) received countervailable subsidies from certain programs during the period of review (POR) from January 1, 2017 through December 31, 2017.

DATES: Applicable March 13, 2020.

FOR FURTHER INFORMATION CONTACT: Chien-Min Yang, AD/CVD Operations, Office VII, Enforcement and Compliance, U.S. Department of Commerce, 1401 Constitution Avenue NW, Washington, DC 20230; telephone: (202) 482-5484.

SUPPLEMENTARY INFORMATION:

Background

Commerce published the preliminary results of the administrative review of the countervailing duty order on certain new pneumatic off-the-road tires (OTR Tires) from China on November 18, 2019.¹ In the Preliminary Results, Commerce partially rescinded the administrative review with respect to three companies and preliminarily found that Zhongwei received countervailable subsidies from certain programs during the POR.² No interested party commented on the Preliminary Results.

¹ See Certain New Pneumatic Off-The-Road Tires from the People's Republic of China: Preliminary Results and Partial Rescission of Countervailing Duty Administrative Review; 2017, 84 FR 63612 (November 18, 2019) (Preliminary Results) and accompanying Preliminary Decision Memorandum (PDM).

² See PDM at 5 and 17-23.

Scope of the Order

The products covered by the scope are new pneumatic tires designed for off-the-road (OTR) and off-highway use. The subject merchandise is currently classifiable under Harmonized Tariff Schedule of the United States (HTSUS) subheadings: 4011.20.10.25, 4011.20.10.35, 4011.20.50.30, 4011.20.50.50, 4011.70.0010, 4011.62.00.00, 4011.80.1020, 4011.90.10, 4011.70.0050, 4011.80.1010, 4011.80.1020, 4011.80.2010, 4011.80.2020, 4011.80.8010, and 4011.80.8020. While HTSUS subheadings are provided for convenience and customs purposes, the written description of the scope is dispositive.³

³ For a full description of the scope of the order, see PDM at 3-5.

Methodology

Commerce conducted this review in accordance with section 751(a)(1)(A) of the Tariff Act of 1930, as amended (the Act). As noted above, no interested party disputed Commerce's preliminary or post-preliminary findings. Commerce finds that there is no reason to modify its analysis for these final results. Accordingly, no decision memorandum accompanies this Federal Register notice. For further details of the issues already addressed in this review, see the Preliminary Results and accompanying PDM.

Final Results of Administrative Review

We determine that, for the period January 1, 2017 through December 31, 2017, the following estimated countervailable subsidy rate exists:

Company | Subsidy rate (percent)
Weihai Zhongwei Rubber Co., Ltd | 24.49

Assessment Rates and Cash Deposit Requirement

In accordance with 19 CFR 351.212(b)(2), Commerce intends to issue appropriate instructions to U.S. Customs and Border Protection (CBP) 15 days after publication of the final results of this review. Commerce will instruct CBP to liquidate shipments of subject merchandise produced and/or exported by the companies listed above, entered or withdrawn from warehouse, for consumption from January 1, 2017 through December 31, 2017, at the rates listed above.

On May 10, 2019, as a result of the five-year (sunset) review, Commerce revoked the OTR Tires China CVD Order.⁴ In the Revocation Notice, Commerce stated that it intended to issue instructions to CBP to terminate the suspension of liquidation and to discontinue the collection of cash deposits on entries of subject merchandise, entered or withdrawn from warehouse, on or after February 4, 2019.⁵ Furthermore, because the OTR Tires China CVD Order has been revoked as a result of the Revocation Notice, Commerce will not issue cash deposit instructions at the conclusion of this administrative review.

⁴ See Certain New Pneumatic Off-the-Road Tires From the People's Republic of China: Countervailing Duty Order, 73 FR 51627 (September 4, 2008) (OTR Tires China CVD Order); see also Certain New Pneumatic Off-the-Road Tires From the People's Republic of China: Final Results of Sunset Reviews and Revocation of Antidumping Duty and Countervailing Duty Orders, 84 FR 20616 (May 10, 2019) (Revocation Notice).

⁵ See Revocation Notice, 84 FR at 20618.

Administrative Protective Order

This notice also serves as a final reminder to parties subject to an administrative protective order (APO) of their responsibilities concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

These final results are issued and published in accordance with sections 751(a)(1) and 777(i)(1) of the Act.

Dated: March 9, 2020.
Jeffrey I. Kessler,
Assistant Secretary for Enforcement and Compliance.

[FR Doc. 2020-05181 Filed 3-12-20; 8:45 am]

BILLING CODE 3510-DS-P